DEPARTMENT OF ENERGY

Federal Energy Regulatory Commission

[Docket No. CP01-45-000]

Colorado Interstate Gas Company; Notice of Availability of the Environmental Assessment for the Proposed Valley Line Expansion Project

November 9, 2001.

The staff of the Federal Energy Regulatory Commission (FERC or Commission) has prepared an environmental assessment (EA) on the natural gas pipeline facilities proposed by Colorado Interstate Gas Company (CIG) in the above-referenced docket.

The EA was prepared to satisfy the requirements of the National Environmental Policy Act. The staff concludes that approval of the proposed project, with appropriate mitigating measures, would not constitute a major Federal action significantly affecting the quality of the human environment.

The EA assesses the potential environmental effects of the construction and operation of facilities to reinforce CIG's existing natural gas transmission system, including:

• The 5C Central Loop—about 35 miles of 24-inch-diameter loop between CIG's existing Ault Meter Station and the Fort Lupton Compressor Station, all in Weld County, Colorado;

• The Valley Line Loop—about 84 miles of 20-inch-diameter loop which would generally parallel CIG's existing Valley Line between its Watkins Compressor Station in southern Adams County east of Denver and a location adjacent to the existing Nixon Power Plant in central El Paso County south of Colorado Springs;

• Two new natural gas-fired reciprocating engine-driven compressors, totaling 4,450 horsepower, and appurtenant facilities at CIG's Fort Lupton Compressor Station in Weld County, Colorado; and

• Appurtenant and ancillary facilities.

The purpose of the proposed facilities would be to transport an additional 278.8 million cubic feet of natural gas per day (MMcfd) on the portion of CIG's system between its Cheyenne Compressor Station in northern Weld County and its Watkins Compressor Station in southern Adams County, and an additional 344.4 MMcfd on the portion of its Valley Line between its Watkins Compressor Station and the vicinity of the Nixon Power Plant in central El Paso County south of Colorado Springs.

The EA has been placed in the public files of the FERC. A limited number of copies of the EA are available for distribution and public inspection at: Federal Energy Regulatory Commission, Public Reference and Files Maintenance Branch, 888 First Street, NE., Room 2A, Washington, DC 20426, (202) 208-1371.

Copies of the EA have been mailed to Federal, State and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send an original and two copies of your comments to: Secretary, Federal Energy Regulatory Commission, 888 First Street, NE., Room 1A, Washington, DC 20426;

• Label one copy of the comments for the attention of Gas Branch 1, PJ11.1.

• Reference Docket No. CP01-45-000; and

• Mail your comments so that they will be received in Washington, DC on or before December 10, 2001.

Comments may also be filed electronically via the Internet in lieu of paper. See 18 CFR 385.2001(a)(1)(iii) and the instructions on the Commission's Web site at http://www.ferc.gov under the “e-Filing” link and the link to the User's Guide. Before you can file comments you will need to create an account which can be created by clicking on “Login to File” and then “New User Account.”

Due to current events, we cannot guarantee that we will receive mail on a timely basis from the U.S. Postal Service, and we do not know how long this situation will continue. However, we continue to receive filings from private mail delivery services, including messenger services in a reliable manner. The Commission encourages electronic filing of comments in this proceeding.

Comments will be considered by the Commission but will not serve to make the commentor a party to the proceeding. Any person seeking to become a party to the proceeding must file a motion to intervene pursuant to rule 214 of the Commission's rules of practice and procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the proposed project is available from the Commission's Office of External Affairs, at (202) 208-1088 or on the FERC Internet web site (www.ferc.gov) using the “RIMS” link to information in this docket number. Click on the “RIMS” link, select “Docket#” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket#” from the CIPS menu, and follow the instructions. For assistance with access to CIPS, the CIPS helpline can be reached at (202) 208-2474.

Linwood A. Watson, Jr.,
Acting Secretary.

[FR Doc. 01-28785 Filed 11-16-01; 8:45 am]

BILLING CODE 6717-01-P